DEPARTMENT OF THE INTERIOR

National Park Service

Termination of Environmental Impact Statement (EIS) for the Special Resource Study (SRS) for Castle Nugent Farms, St. Croix, U.S. Virgin Islands in favor of an Environmental Assessment (EA)

AGENCY: National Park Service, Interior.

ACTION: Notice.

SUMMARY: Pursuant to section 102(2)(C) of the National Environmental Policy Act of 1969, and National Park Service (NPS) policy in Director's Order 2 (Park Planning) and Director's Order 12 (Conservation Planning, Environmental Impact Analysis, and Decision-making), the NPS is terminating the EIS process for the SRS for Castle Nugent Farms, St. Croix, U.S. Virgin Islands. A Notice of Intent to prepare an EIS for the SRS was published in the Federal Register on November 21, 2007 (72 FR 65593). The NPS has since determined that an EA rather than an EIS is the appropriate level of environmental documentation for the study.

DATES: The NPS will notify the public by mail, Web site, and other means, of public review periods and meetings associated with the Draft SRS/EA. All public review and other written public information will be made available online at http://parkplanning.nps.gov/projectHome.cfm?parkID=423&projectId=19240.

FOR FURTHER INFORMATION CONTACT: John Barrett, Planning Team Leader, Castle Nugent Farms Special Resource Study, NPS Southeast Regional Office, Division of Planning and Compliance, 100 Alabama Street, SW., 6th Floor, 1924 Building, Atlanta, Georgia 30303.

SUPPLEMENTARY INFORMATION: On October 11, 2006, Public Law 109-317 was enacted directing the Secretary of the Interior to conduct an SRS for an area known as Castle Nugent Farms located on the island of St. Croix in the U.S. Virgin Islands. The SRS will determine whether study area should be considered for inclusion in the National Park System. The four required criteria are: National significance, suitability, feasibility, and the appropriateness of direct NPS management. Scoping information meetings for the SRS were conducted in 2007 on the island of St. Croix, U.S. Virgin Islands (USVI). Initial scoping did not result in significant impacts being identified by the public. Thereafter, the NPS planning team developed three preliminary alternatives, including the No Action Alternative (Alternative A—Continuation of Existing Conditions), and two action alternatives (alternatives B and C). The two action alternatives describe NPS management of the area, as follows—Alternative B: an 11,500-acre unit managed by the NPS that would include 8,600 marine acres under the jurisdiction of the Government of the USVI; and Alternative C: a 1,750-acre unit of terrestrial lands managed by the NPS. A preliminary analysis of these alternatives does not indicate that significant impacts will result from implementation of any of the alternatives. These alternatives will be refined through the final stages of the planning process.

Authority: The authority for publishing this notice is contained in 40 CFR 1506.6.

The responsible official is David Vela, Regional Director, Southeast Region, National Park Service, 100 Alabama Street SW., 1924 Building, Atlanta, Georgia 30303.

Dated: February 5, 2010.
David Vela,
Regional Director, Southeast Region.

[FR Doc. 2010-7782 Filed 4-6-10; 8:45 am]

BILLING CODE 4310-70-P